DEPARTMENT OF AGRICULTURE

Agricultural Marketing Service

[No. LS-99-09]

United States Standards for Grades of Feeder Cattle

AGENCY: Agricultural Marketing Service, USDA.

ACTION: Notice.

SUMMARY: The Agricultural Marketing Service is changing the official U.S. standards for grades of feeder cattle. The changes adjust the minimum requirements for the muscle thickness grades and increase the number of grades from three to four to accommodate thicker muscled cattle and reflect current marketing practices. Also, the frame size grades are updated (increased minimum weights) to reflect the genetic changes that have taken place in the cattle population since the current standards were adopted in 1979. Industry and other groups, including State Departments of Agriculture that officially grade feeder cattle for marketing programs, requested that these changes be made. The updated standards more accurately represent today's population of feeder cattle and thus should provide the industry with more meaningful market evaluations.

EFFECTIVE DATE: October 1, 2000.

FOR FURTHER INFORMATION CONTACT: Herbert C. Abraham, Chief, Standardization Branch, Livestock and Seed Program, Agricultural Marketing Service, U.S. Department of Agriculture, Room 2603 South Building, STOP 0254, P.O. Box 96456, Washington, DC 20090-6456, (202) 720-4486 or Herbert.Abraham@usda.gov.

The updated U.S. Standards for Grades of Feeder Cattle are available either through the above addresses or by accessing this web site http://www.ams.usda.gov/lsg/stand/st-pubs.htm.

SUPPLEMENTARY INFORMATION: Section 203(c) of the Agricultural Marketing Act of 1946, as amended, directs and authorizes the Secretary of Agriculture “to develop and improve standards of quality, condition, quantity, grade, and packaging and recommend and demonstrate such standards in order to encourage uniformity and consistency in commercial practices * * *” AMS is committed to carrying out this authority in a manner that facilitates the marketing of agricultural commodities and makes copies of official standards available upon request. The United States Standards for Grades of Feeder Cattle do not appear in the Code of Federal Regulations but are maintained by USDA.

AMS is updating the United States Standards for Grades of Feeder Cattle using the procedures that appear in part 36 of title 7 of the Code of Federal Regulations (7 CFR Part 36). These changes are the same as those proposed in the September 23, 1999, Federal Register (64 FR 51501).

Background

The United States Standards for Grades of Feeder Cattle were last modified September 2, 1979. These grade standards were originally used more extensively in the Eastern United States where marketing feeder cattle by commingling ownership and packaging by grade and weight is popular due to the small average cow herd size. Nonetheless, the feeder cattle standards have become the descriptive standards of choice by most of the feeder cattle industry nationwide. More importantly, these standards have served to educate the industry about the importance of frame size in feeder cattle and how frame size relates to an animal's predetermined, market ready weight. Additionally, the standards emphasize the importance of muscle thickness as it relates to the beef cattle industry.

Significant changes (genetic and management) have taken place in the feeder cattle segment of the beef industry since the 1979 grade standards were adopted. The industry has moved from essentially four basic breeds in the 1950's to nearly 100 in the 1990's, resulting in a dramatic effect on the basic genetics of the beef cattle population. Consequently, feeder cattle type—as it relates to mature size—has also changed dramatically. This, linked with changes that have occurred during the same time period in feeder cattle management practices, has caused a growing concern by USDA that the feeder cattle standards had become outdated since their adoption 20 years ago.

The feeder cattle grades are based on differences in frame size and muscle thickness—two of the most important genetic factors affecting merit (value) in feeder cattle. Frame size refers to the animal's skeletal size—its height and body length—in relation to its age. Frame size relates to the weight at which, under normal feeding and management practices, an animal will produce a carcass of a given grade. Large framed animals require a longer time in the feedlot to reach a given grade and will weigh more than a small-framed animal would weigh at the same grade. Muscle thickness is related to muscle-to-bone ratio at a given degree of fatness and hence, carcass yield grade. Thicker muscled animals produce a higher percentage yield of lean meat. The 1979 feeder cattle grades recognize three frame size grades and three muscle thickness grades. The three frame sizes were Small Frame, Medium Frame and Large Frame. The three muscle thickness grades from the thickest to the thinnest were No. 1, No. 2 and No. 3.

Proposed Standards

USDA entered into a project with Colorado State University (CSU) funded by the USDA, AMS, Federal/State Market Improvement Program to determine: (1) The live weights at which the current population of Large, Medium, and Small framed feeder steers and heifers attain a degree of finish associated with a carcass quality grade of low Choice, and; (2) an effective approach for stratification of feeder cattle into muscle thickness categories that reflect eventual differences in carcass muscularity and ultimate USDA Yield Grade.

Results of the CSU study showed that the weight limits for Medium frame cattle were too low. The consist of the cattle population had changed drastically over the past 20 years since the standards were initiated. The number of popular breeds in the 1970's was a mere handful compared to nearly 100 registered breeds today. Most of these breeds are larger framed breeds that have had quite an impact on the mature and finished weights of our cattle supply.

The industry also saw a need to change the muscling specifications so thicker muscling is recognized. This was particularly true at graded feeder cattle sales, where under the 1979 system the very best muscled cattle were sold in the same pen with cattle that have muscling “close” to dairy type. These restructured muscling guidelines, recommended by the States through the National Livestock Grading and Marketing Association and used in the CSU study, distribute cattle more evenly among the muscle grades.

Therefore, it was proposed in a September 23, 1999, Federal Register notice that the minimum weights specified for frame size grades be increased to more accurately reflect today's beef cattle population. It was also proposed to adjust the muscling grades to more effectively identify carcass USDA Yield Grade differences among feeder cattle and reflect current marketing practices.

Comments

A 60-day comment period, which closed on November 23, 1999, was provided for submission of comments. The number of comments submitted prior to the close of the comment period was 11. In addition, four comments were received after the close of the comment period. These four comments were similar to other timely received comments that were supportive of the proposed grade change. All submitted comments are part of the public record on the proposed change and are available for public review. The number of comments received from industry segments is as follows: Rancher (1), State Agricultural Associations (3), State Departments of Agriculture (3), University (1), Feedlot (2) and Feeder cattle procurement (1).

Evaluation of Comments

Most of the comments supported the proposed change to the feeder cattle standards, stating that the proposed standards would more accurately represent the industry's population of feeder cattle in relation to frame size and muscle scores. Four of the supporting comments further expressed concern over the potential impact on the Chicago Mercantile Exchange (CME) Feeder Cattle cash settlement price. They requested AMS analyze the potential impact on the current market situation using the 1979 Feeder Cattle standards and the proposed standards. Market News evaluated a limited number of markets during September/October 1999 and November/December 1999. The evaluation determined the number of cattle identified as No. 1 muscle score will decline, however the average cost per hundred weight will increase. This information will allow the CME to make any appropriate adjustments in feeder cattle future contracts.

One comment focused on muscling and its lack of importance to lean yield. However, current research indicates that truly heavy muscled cattle are not sufficiently recognized by the current standards to have an impact in the price discovery process. One comment interpreted the proposed standard as being initiated by USDA, AMS and not as an industry driven, research supported modification to the current standards. As discussed previously, the update of the standards is supported by the CSU study and the request for the update was initiated by industry and other groups, including State Departments of Agriculture, that officially grade feeder cattle for marketing programs. The updated standards more accurately represent today's population of feeder cattle and thus should provide the industry with more meaningful market evaluations.

In consideration of the submitted public comments, and all other available information, USDA is revising the official U.S. Standards for Grades of Feeder Cattle by modifying the frame size parameters as shown in Table 1.

Table 1.—Weight/frame size
Frame size | Steers weight, lbs. | Heifers weight, lbs.
Small | <1100 | <1000
Medium | 1100-1250 | 1000-1150
Large | >1250 | >1150

Also, the changes adjust the minimum requirements for the muscle thickness grades and increase the number of grades from three (3) to four (4) to accommodate thicker muscled cattle. In order to allow the industry sufficient time to update its current system, the updated standards will be implemented October 1, 2000.

Authority: 7 U.S.C. 1621-1627.

Dated: June 21, 2000.
Barry L. Carpenter,
Deputy Administrator, Livestock and Seed Program.

[FR Doc. 00-16150 Filed 6-26-00; 8:45 am]

BILLING CODE 3410-02-P